DEPARTMENT OF TRANSPORTATION

National Highway Traffic Safety Administration

Petition for Exemption From the Vehicle Theft Prevention Standard: Mitsubishi Motors

AGENCY: National Highway Traffic Safety Administration (NHTSA) Department of Transportation (DOT).

ACTION: Grant of petition for exemption.

SUMMARY: This document grants in full the Mitsubishi Motors R&D of America (Mitsubishi) petition for exemption of the Mitsubishi Eclipse vehicle line in accordance with 49 CFR Part 543, Exemption from the Theft Prevention Standard. This petition is granted because the agency has determined that the antitheft device to be placed on the line as standard equipment is likely to be as effective in reducing and deterring motor vehicle theft as compliance with the parts-marking requirements of the Theft Prevention Standard (49 CFR part 541). Mitsubishi requested confidential treatment for some of the information and attachments it submitted in support of its petition. In a letter dated June 26, 2006, the agency granted the petitioner's request for confidential treatment of most aspects of its petition.

DATES: The exemption granted by this notice is effective beginning with the 2007 model year.

FOR FURTHER INFORMATION CONTACT: Ms. Carlita Ballard, Office of International Vehicle Fuel Economy and Consumer Standards, NHTSA, 400 Seventh Street, SW., Washington, DC 20590. Ms. Ballard's phone number is (202) 366-0846. Her fax number is (202) 493-2290.

SUPPLEMENTARY INFORMATION: In a petition dated June 14, 2006, Mitsubishi requested exemption from the parts-marking requirements of the theft prevention standard (49 CFR part 541) for the Mitsubishi Eclipse vehicle line beginning with MY 2007. The petition requested an exemption from parts-marking pursuant to 49 CFR part 543, Exemption From Vehicle Theft Prevention Standard, based on the installation of an antitheft device as standard equipment for the entire vehicle line. Mitsubishi's submission is considered a complete petition as required by 49 CFR 543.7, in that it meets the general requirements contained in 543.5 and the specific content requirements of 543.6.

Under § 543.5(a), a manufacturer may petition NHTSA to grant exemptions for one line of its vehicle lines per year. In its petition, Mitsubishi provided a detailed description and diagram of the identity, design, and location of the components of the antitheft device for the new vehicle line. Mitsubishi will install a passive, transponder-based electronic immobilizer device as standard equipment on its Eclipse vehicle line beginning with MY 2007. Mitsubishi's device incorporates an immobilizer feature and a visual and audible alarm system. Key components of the antitheft device are an engine electronic control unit (ECU), an immobilizer ECU, a key antenna and a transponder key.

Mitsubishi explained that immobilization of its device occurs when the ignition switch is turned to the “ON” position. The transceiver module reads the specific ignition key code for the vehicle and transmits an encrypted message containing the key code to the Electronic Control Unit (ECU), which then determines if the key is valid and authorizes the engine to start by sending another encrypted message to the ECU. The powertrain will function only if the key code matches the unique identification key code previously programmed into the ECU. If the codes do not match, the power train engine and fuel system will be disabled.

In response to NHTSA's inquiry, Mitsubishi stated in an e-mail dated August 17, 2006 that an audible and visual alarm system will be installed as standard equipment on the Eclipse vehicle line. Mitsubishi further stated that the audible and visual device will monitor all the doors, rear hatch or trunk lid of the vehicle and is designed to provide protection from unauthorized entry into the vehicle. Once the alarm system has been armed, opening the hood from the outside, or opening the doors, rear hatch or trunk lid without using the remote control transmitter or key will activate the alarm unless the system is disarmed by the driver/operator.

Mitsubishi also provided information on the reliability and durability of its proposed device, conducting tests based on its own specified standards. In a letter dated June 26, 2006, NHTSA granted Mitsubishi confidential treatment for the test information. Mitsubishi provided a list of the tests it conducted. Mitsubishi based its belief that the device is reliable and durable on the fact that the device complied with the specific requirements for each test.

Mitsubishi further stated that it is not possible to mechanically override the antitheft system and start the vehicle, and that any attempt to slam or pull the ignition lock cylinder, would have no effect on an intruder's ability to start the vehicle as the correct code would need to be transmitted to do so.

On the basis of this comparison, Mitsubishi informed the agency that the Eclipse vehicle line was first equipped with the proposed device beginning with its MY 2000 vehicles and, citing theft rates published by NHTSA in the Federal Register, that the theft rate for the MY 2000 Eclipse decreased by almost 42% compared with that of its MY 1999 Mitsubishi Eclipse (unequipped with an immobilizer device). NHTSA also checked the published theft rates through the 2004 MY, and while there is some variation, the rate continued to stay below the 1999 rate.

For clarification purposes, the agency notes that it does not collect theft data. NHTSA publishes theft rates based on data provided by the National Crime Information Center (NCIC) of the Federal Bureau of Investigation. NHTSA uses NCIC data to calculate theft rates and publishes these rates annually in the Federal Register.

Mitsubishi also stated that the Galant and Endeavor vehicle lines have been equipped with a similar type of immobilizer device since January and April 2004, respectively. The Mitsubishi Galant and Endeavor vehicle lines were both granted partsmaking exemptions by the agency. Therefore, Mitsubishi has concluded that the antitheft device proposed for its vehicle line is not less effective than those devices in the lines for which NHTSA has already granted full exemption from the parts-making requirements.

Pursuant to 49 U.S.C. 33106 and 49 CFR 543.7(b), the agency grants a petition for an exemption from the parts-marking requirements of part 541 either in whole or in part, if it determines that, based upon substantial evidence, the standard equipment antitheft device is likely to be as effective in reducing and deterring motor vehicle theft as compliance with the parts-marking requirements of part 541. As explained below, the agency finds that Mitsubishi has provided adequate reasons for its belief that the antitheft device will be as effective in reducing and deterring motor vehicle theft as compliance with the parts-marking requirements of the Theft Prevention Standard. This conclusion is based on the information Mitsubishi provided and additional investigation by NHTSA about the device for the Mitsubishi Eclipse vehicle line.

The agency concludes that the device will provide the five types of performance listed in § 543.6(a)(3): promoting activation; attracting attention to the efforts of unauthorized persons to enter or operate a vehicle by means other than a key; preventing defeat or circumvention of the device by unauthorized persons; prevention operation of the vehicle by unauthorized entrants; and ensuring the reliability and durability of the device. The agency agrees that the device is substantially similar to devices in other vehicles lines for which the agency has already granted exemptions. In addition, the theft rate for the vehicle line has been reduced since the introduction of the device.

For the foregoing reasons, the agency hereby grants in full Mitsubishi's petition for exemption for the Eclipse vehicle line from the parts-making requirements of 49 CFR part 541, beginning with the 2007 model year vehicles. The agency notes that 49 CFR part 541, appendix A-1, identifies those lines that are exempted from the Theft Prevention Standard for a given model year. 49 CFR 543.7(f) contains publication requirements incident to the disposition of all part 543 petitions. Advanced listing, including the release of future product nameplates, the beginning model year for which the petition is granted and a general description of the antitheft device is necessary in order to notify law enforcement agencies of new vehicle lines exempted from the parts-marking requirements of the Theft Prevention Standard.

If Mitsubishi decides not to use the exemption for this line, it must formally notify the agency, and, thereafter, the line must be fully marked as required by 49 CFR 541.5 and 541.6 (marking of major component parts and replacement parts).

NHTSA notes that if Mitsubishi wishes in the future to modify the device on which this exemption is based, the company may have to submit a petition to modify the exemption. Section 543.7(d) states that a part 543 exemption applies only to vehicles that belong to a line exempted under this part and equipped with the antitheft device on which the line's exemption is based. Further, § 543.9(c)(2) provides for the submission of petitions “to modify an exemption to permit the use of an antitheft device similar to but differing from the one specified in that exemption.”

The agency wishes to minimize the administrative burden that part 543.9(c)(2) could place on exempted vehicle manufacturers and itself. The agency did not intend part 543 to require the submission of a modification petition for every change to the components or design of an antitheft device. The significance of many such changes could be de minimis. Therefore, NHTSA suggests that if the manufacturer contemplates making any changes the effects of which might be characterized as de minimis, it should consult the agency before preparing and submitting a petition to modify.

Authority: 49 U.S.C. 33106; delegation of authority at 49 CFR 1.50.

Issued on: December 15, 2006.
Stephen R. Kratzke,
Associate Administrator for Rulemaking.

[FR Doc. 06-9960 Filed 1-3-07; 8:45 am]

BILLING CODE 4910-59-M